DEPARTMENT OF THE INTERIOR

National Park Service

[NPS-SER-BICY-17702; PPSEBICY00, PPMPSPD1Z.YM0000]

2015 Meeting Schedule of the Big Cypress National Preserve Off-Road Vehicle Advisory Committee

AGENCY: National Park Service, Interior.

ACTION: Notice of meetings.

SUMMARY: In accordance with the Federal Advisory Committee Act (5 U.S.C. Appendix 1-16), notice is hereby given of the 2015 meeting schedule of the Big Cypress National Preserve Off-Road Vehicle Advisory Committee.

DATES: The Committee will meet on the following dates: Tuesday, June 16, 2015, 3:30 p.m.-8:00 p.m., Tuesday, October 20, 2015, 3:30 p.m.-8:00 p.m.

ADDRESSES: All meetings will be held at the Big Cypress Swamp Welcome Center, 33000 Tamiami Trail East, Ochopee, Florida. Written comments and requests for agenda items may be submitted electronically on the Web site http://www.nps.gov/bicy/parkmgmt/orv-advisory-committee.htm. Alternatively, comments and requests may be sent to: Superintendent, Big Cypress National Preserve, 33100 Tamiami Trail East, Ochopee, FL 34141-1000, Attn: ORV Advisory Committee.

FOR FURTHER INFORMATION CONTACT: J. D. Lee, Acting Superintendent, Big Cypress National Preserve, 33100 Tamiami Trail East, Ochopee, Florida 34141-1000, telephone (239) 695-1103, or go to the Web site http://www.nps.gov/bicy/parkmgmt/orv-advisory-committee.htm.

SUPPLEMENTARY INFORMATION: The Committee was established (Federal Register, August 1, 2007, pp. 42108-42109) pursuant to the Preserve's 2000 Recreational Off-Road Vehicle Management Plan and the Federal Advisory Committee Act of 1972 (5 U.S.C. Appendix 1-16) to examine issues and make recommendations regarding the management of off-road vehicles in the Preserve. The agendas for these meetings will be published by press release and on the http://www.nps.gov/bicy/parkmgmt/orv-advisory-committee.htm Web site. The meetings will be open to the public, and time will be reserved for public comment. Oral comments will be summarized for the record. If you wish to have your comments recorded verbatim, you must submit them in writing. Before including your address, telephone number, email address, or other personal identifying information in your comment, you should be aware that your entire comment—including your personal identifying information—may be made publicly available at any time. While you may ask us in your comment to withhold your personal identifying information from public review, we cannot guarantee that we will be able to do so.

Dated: March 24, 2015.
Alma Ripps,
Chief, Office of Policy.

[FR Doc. 2015-07427 Filed 3-31-15; 8:45 am]

BILLING CODE 4310-EE-P